DEPARTMENT OF HEALTH AND HUMAN SERVICES

Centers for Disease Control and Prevention

[30Day-25-0017]

Agency Forms Undergoing Paperwork Reduction Act Review

In accordance with the Paperwork Reduction Act of 1995, the Centers for Disease Control and Prevention (CDC) has submitted the information collection request titled “Application for Training” to the Office of Management and Budget (OMB) for review and approval. CDC previously published a “Proposed Data Collection Submitted for Public Comment and Recommendations” notice on June 16, 2025 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Application for Training (OMB Control No. 0920-0017, Exp. 9/30/2025)—Revision—National Center for State, Tribal, Local, and Territorial Public Health Infrastructure and Workforce (NCSTLTPHIW), Centers for Disease Control and Prevention (CDC).

Background and Brief Description

The mission of CDC's Division of Workforce Development (DWD) is to provide leadership in public health training and education, and manage innovative, evidence-based programs to prepare the health workforce to meet public health challenges of the 21st Century. CDC offers training and professional development opportunities (both accredited and non-accredited) in the areas of public health, epidemiology, medicine, economics, information science, veterinary medicine, nursing, public policy, and other related fields.

To administer its broad portfolio of training activities, CDC collects information from the developers of educational content and the learners who participate in professional training opportunities. Information has been collected through two electronic platforms: the CDC TRAIN learning management system and the Training and Continuing Education Online (TCEO) learning management system. CDC's previous request for OMB approval outlined a multi-year plan to decommission the TCEO platform and transition all learner information collection to the CDC TRAIN platform under a unified data collection and evaluation framework for all CDC course offerings.

This Revision requests removal of data collection instruments relating to the TCEO learning management system, which has been discontinued as of January 2024. During the next OMB approval period, CDC plans to collect all learner data online using the secure, password-protected CDC TRAIN platform. This Revision also consolidates accredited and nonaccredited training evaluation tools into one modular post-course evaluation (taken immediately after a course is completed), and one follow-up evaluation (taken one month after the course is completed). Respondents will include educational developers requesting accreditation for their trainings and public health and healthcare professionals who seek training. CDC will use identifiable information in CDC TRAIN to track participant completion of educational activities to facilitate required reporting to earn continuing education credits, hours, or units. The Revision request includes updated estimates for the number of respondents, burden per response, frequency of information collection, and total burden hours. The proposed changes will reduce burden, streamline data collection efforts and provide CDC with a more effective, efficient, and secure mechanism for collecting, processing, and monitoring training-related information.

CDC will use information collected in CDC TRAIN to evaluate and improve courses based on learner feedback. For accredited trainings, participation is required to review and approve proposals for educational activities to receive continuing education accreditation, to generate learner certificates of attendance and verify training completion, and to ensure compliance with mandatory accreditation standards. Participation in evaluation data collection for non-accredited trainings is voluntary. Aggregate data from the evaluations in CDC TRAIN will be used to improve educational activities and assess learning outcomes.

OMB approval is requested for three years. The total estimated annualized burden will decrease from 288,150 hours to 127,650 hours based on response rates and totals from the previous approval period. There are no costs to respondents other than their time.

Estimated Annualized Burden Hours
Type of respondents | Form name | Number of respondents | Number of responses per respondent | Average burden per response (in hours)
Educational Developers (Health Educators) | Continuing Education (CE) Proposal | 130 | 1 | 5
Public Health and Health Care Professionals (Learners) | CDC TRAIN Post-Course Evaluation | 250,000 | 2 | 15/60
Public Health and Health Care Professionals (Learners) | CDC TRAIN Follow-up Evaluation | 20,000 | 2 | 3/60

Jeffrey M. Zirger,
Lead, Information Collection Review Office, Office of Public Health Ethics and Regulations, Office of Science, Centers for Disease Control and Prevention.

[FR Doc. 2025-16914 Filed 9-3-25; 8:45 am]

BILLING CODE 4163-18-P